DEPARTMENT OF COMMERCE

National Oceanic and Atmospheric Administration

RIN 0648-XE124

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS has made a preliminary determination that an exempted fishing permit application contains all of the required information and warrants further consideration. This exempted fishing permit would allow two commercial fishing vessels to test the functional performance of a large-mesh belly panel to reduce windowpane flounder bycatch while fishing for scup within the Southern New England and Mid-Atlantic windowpane flounder stock area. The research would be conducted by the Cornell University Cooperative Extension of the Suffolk County Marine Program.

Regulations under the Magnuson-Stevens Fishery Conservation and Management Act require publication of this notification to provide interested parties the opportunity to comment on applications for a proposed exempted fishing permit.

DATES: Comments must be received on or before September 9, 2015.

ADDRESSES: You may submit written comments by any of the following methods:

• Email: nmfs.gar.efp@noaa.gov. Include in the subject line “Comments on Cornell Small Mesh Windowpane Bycatch EFP.”

• Mail: John K. Bullard, Regional Administrator, NMFS, Greater Atlantic Regional Office, 55 Great Republic Drive, Gloucester, MA 01930. Mark the outside of the envelope “Comments on Cornell Small Mesh Windowpane Bycatch EFP.”

• Fax: (978) 281-9135.

FOR FURTHER INFORMATION CONTACT: Reid Lichwell, Fishery Management Specialist, 978-281-9112, Reid.Lichwell@noaa.gov.

SUPPLEMENTARY INFORMATION: Cornell University Cooperative Extension of the Suffolk County Marine Program (CCE) submitted a complete application for an exempted fishing permit on June 18, 2015. This EFP would exempt vessels from the following regulations: 50 CFR 648.122(d), possession limits for scup. This EFP would also exempt participating vessels from possession limits and minimum size requirements specified in 50 CFR part 648, subparts B and D through O, including windowpane flounder, while samples are being weighed prior to discard. The EFP would allow these exemptions from September 1, 2015 to May 31, 2016.

This exemption would allow vessels to retain scup in excess of the Winter II possession limit. The Winter II possession limit timeframe is November 1, 2015 to December 31, 2015, and the limit will be identified in a future Federal Register notice. This exemption would save the participating vessels time that would otherwise be used for transiting to port to unload catch and to return to the research area to conduct more experimental tows. The temporary exemption from the regulated size and possession limits would allow for scup, windowpane flounder, and various bycatch species to be onboard the vessel while sampling and weighing activities are taking place prior to discard.

The project will be conducted primarily during the fall months (September-November), while both scup and windowpane flounder reside predominately inshore, with the two species occurring together in high numbers south of Long Island, NY, and Nantucket, MA. However, trips may also occur in the spring if more data or additional trips are needed.

The participating vessels would conduct research fishing concurrently, orienting the vessels side-by-side, within a half mile of each other while fishing gear is deployed. The vessels would be using typical scup trawl fishing methods and the participants would be members of the small mesh scup trawl fleet, holding scup permits. To test the experimental gear, one vessel will have its scup net modified with the large-mesh belly panel installed into the first belly of the net, the other vessel will have the same scup net without the large-mesh belly panel added. The resulting catch data will identify the differences in catch between the standard net and the experimental net. The vessels will alternate the use of the standard net and the net with the experimental gear, giving each vessel the same amount of tows using each gear type. The two vessels would be of similar size and horsepower with identical doors, legs, and ground cables.

The vessels will concurrently conduct seven days of research fishing over the course of two to three trips, with a minimum of six tows per day for each vessel, with each tow lasting an hour. This will provide a minimum of 84 tows (42 with the standard net and 42 with the experimental net) for the research project. Each vessel would weigh its respective catch of both scup and windowpane flounder and measure the length of 100 random samples of each species after each tow. If fewer than 100 individuals from a sample species are caught, all individuals will be measured. The total weight of all additional species from each tow will be obtained either by weighing or by catch estimations.

The vessels would retain legal size scup and other legally permitted species to be landed and sold. Windowpane flounder and other prohibited species will not be retained. No additional mortality of fish species or interactions with protected species would occur during this project, beyond that of typical commercial scup trawl operations.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: August 20, 2015.
Alan D. Risenhoover,
Director, Office of Sustainable Fisheries, National Marine Fisheries Service.

[FR Doc. 2015-21008 Filed 8-24-15; 8:45 am]

BILLING CODE 3510-22-P